DEPARTMENT OF ENERGY

Federal Energy Regulatory Commission

[Docket No. ER03-244-000, et al.]

California Independent System Operator Corporation, et al.; Electric Rate and Corporate Filings

December 9, 2002.

The following filings have been made with the Commission. The filings are listed in ascending order within each docket classification.

1. California Independent System Operator Corporation

[Docket No. ER03-244-000]

Take notice that on December 5, 2002, the California Independent System Operator Corporation (ISO), submitted an informational filing in accordance with Article IX, Section B of the Stipulation and Agreement approved by the Commission on May 28, 1999, California Independent System Operator Corp., 87 FERC ¶ 61,250. ISO states that this provision requires the ISO to provide on a confidential basis to the Commission (I) information regarding any notice from an RMR Unit requesting a change of Condition; (ii) the date the chosen Condition will begin; and (iii) if the change is from Condition 2, the applicable level of Fixed Option Payment.

The ISO also states that unredacted copies of this filing have been served, subject to the applicable Non-Disclosure and Confidentiality Agreement in the RMR Contract, on the designated RMR contact persons at the California Public Utilities Commission and the California Electricity Oversight Board. The ISO adds that redacted copies of this filing have been served, subject to the Non-Disclosure and Confidentiality Agreement in the RMR Contract, on the designated RMR contact persons at the relevant Responsible Utilities and the relevant RMR Owners. Moreover, the ISO indicates that redacted copies of this filing have been served on the California Public Utilities Commission, the California Electricity Oversight Board, the California Energy Commission and all parties with effective Scheduling Coordinator Agreements under the ISO Tariff.

Comment Date: December 26, 2002.

2. PECO Energy Company

[Docket No. ER03-245-000]

Take notice that on December 5, 2002 PECO Energy Company (PECO) filed a Notice of Cancellation of FERC Electric Tariff, Volume 5 that was filed on July 9, 1996 in Docket No. OA96-13.

PECO requests that the cancellation be effective on February 3, 2003. PEPCO states that notice of the cancellation has been served to all 32 parties who have executed service under the Tariff.

Comment Date: December 26, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31637 Filed 12-16-02; 8:45 am]

BILLING CODE 6717-01-P